DEPARTMENT OF EDUCATION

Corrections to Points Awarded for Competitive Preference Priorities and Updated Links to Two Studies; Student Support Services Program

AGENCY: Office of Postsecondary Education, Department of Education.

ACTION: Notice.

Overview Information: Student Support Services (SSS) Program; Catalog of Federal Domestic Assistance (CFDA) Number: 84.042A.

SUMMARY: On December 18, 2014, we published a notice in the Federal Register (79 FR 75722) inviting applications for new awards for fiscal year (FY) 2015 for the SSS Program. The U.S. Department of Education (Department) is providing corrections to the point allocation information for Competitive Preference Priority (CPP) 1(a)—Influencing the Development of Non-Cognitive Factors; CPP 1(b)—Strategies to Influence the Development of Non-Cognitive Factors Supported by Moderate Evidence of Effectiveness; and CPP 2(a)—Providing Individualized Counseling for Personal, Career, and Academic Matters. In addition, the Department is providing updated links to two studies associated with the CPPs.

DATES: Applications Available: December 18, 2014.

Deadline for Transmittal of Applications: February 2, 2015.

Deadline for Intergovernmental Review: April 2, 2015.

FOR FURTHER INFORMATION CONTACT: ReShone Moore, Ph.D., U.S. Department of Education, 1990 K Street NW., Room 7000, Washington, DC 20006-8510. Telephone: (202) 502-7893 or by email: reshone.moore@ed.gov or, if unavailable, Lavelle Wright, U.S. Department of Education, 1990 K Street NW., Room 7000, Washington, DC 20006-8510. Telephone: (202) 502-7674 or by email: Lavelle.wright@ed.gov.

If you use a TDD or a TTY, call the FRS, toll free, at 1-800-877-8339.

SUPPLEMENTARY INFORMATION: On December 18, 2014, we published a notice in the Federal Register (79 FR 75722) inviting applications for new awards for FY 2015 for the SSS Program. It has come to the Department's attention that information regarding the point allocation for CPPs 1(a), 1(b), and 2(a) is inaccurate. The December 18, 2014 notice inviting applications incorrectly states that “up to” one additional point is available for each of CPPs 1(a) and 2(a) and “up to” two additional points are available for CPP 1(b). Through this notice, the Department is providing a correction to CPPs 1(a), 1(b), and 2(a) by deleting the phrase “up to” from the point allocations for each of these CPPs. Under this competition, applicants will be able to earn one additional point for CPP 1(a) and two additional points for CPP 1(b). Additionally, under this competition, applicants will be able to earn one additional point for CPP 2(a) and two additional points for CPP 2(b). No partial points will be awarded for addressing any portion of the CPPs.

Lastly, it also has come to the Department's attention that the links to two studies associated with the CCPs are inoperable. Therefore, to assist potential applicants in responding to the CPPs, we are providing updated links to the two studies. The updated links are listed below:

Bettinger, E.P., & Baker, R. (2011). The effects of student coaching in college: An evaluation of a randomized experiment in student mentoring.

https://ed.stanford.edu/sites/default/files/bettinger_baker_030711.pdf

Walton, G.M. & Cohen, G.L. (2011). A brief social-belonging intervention improves academic and health outcomes of minority students. Science, 331, 1447-1451.

http://www.sciencemag.org/content/331/6023/1447.full

All other information in the December 18, 2014, notice remains unchanged, except for the CPP point corrections and the study link updates. The deadline for transmittal of applications of February 2, 2015 and the deadline for intergovernmental review of April 2, 2015 remain unchanged.

Accessible Format: Individuals with disabilities can obtain a copy of the application package in an accessible format (e.g., braille, large print, audiotape, or compact disc) by contacting the program contact person listed in this section.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Dated: January 22, 2015.
Ericka M. Miller,
Acting Assistant Secretary for Postsecondary Education.

[FR Doc. 2015-01464 Filed 1-26-15; 8:45 am]

BILLING CODE 4000-01-P